DEPARTMENT OF LABOR

Employment and Training Administration

20 CFR Parts 601, 602, 603, 606, 609, 614, 615, 616, 617, 625, 640, 641, 650, 651, 653, 654, 655, 656, 658, 661, 662, 667, and 668

Department of Labor Regulatory Review and Update

AGENCY: Employment and Training Administration, and Employment Standards Administration, Department of Labor.

ACTION: Final rule; technical amendments.

SUMMARY: The Department of Labor (DOL) is amending existing regulations to update obsolete non-substantive or nomenclature references in the Code of Federal Regulations (CFR). This action is intended to improve the accuracy of the agency's regulations and does not impose any new regulatory or technical requirements.

DATES: Effective Date: June 21, 2006.

FOR FURTHER INFORMATION CONTACT: Kathleen Franks, U.S. Department of Labor, Room S-2312, 200 Constitution Avenue, NW., Washington, DC 20210, Telephone (202) 693-5959.

SUPPLEMENTARY INFORMATION: DOL's strategic outcome goal 4.2 measures the agency's success in creating a regulatory structure that promotes compliance flexibility and reduces regulatory burden. As part of this strategic goal, DOL is conducting an ongoing review of its regulations governing labor standards, pensions, health care, and worker safety to ensure that these references in the CFR are accurate and current. This final rule is the first of a series of updates to correct or remove obsolete non-substantive or nomenclature references in the CFR.

Publication of this document constitutes final action on these changes under the Administrative Procedure Act (5 U.S.C. 553). Notice of Proposed Rulemaking is unnecessary since the agency is merely updating non-substantive and nomenclature references.

Executive Order 12866

This rule has been drafted and reviewed in accordance with Executive Order 12866, section 1(b), Principles of Regulations. The agency has determined that this rule is not a “significant regulatory action” under Executive Order 12866, section 3(f), Regulatory Planning and Review. Accordingly, there is no requirement for an assessment of potential costs and benefits under section 6(a)(3) of that order.

Regulatory Flexibility Act

Because no notice of proposed rulemaking is required for this rule under section 553(b) of the Administrative Procedure Act (APA), the requirements of the Regulatory Flexibility Act (5 U.S.C. 601) pertaining to regulatory flexibility do not apply to this rule. See 5 U.S.C. 601(2).

Paperwork Reduction Act

This final rule is not subject to section 350(h) of the Paperwork Reduction Act (44 U.S.C. 3501) since it does not contain any new collection of information requirements.

Publication in Final

The Department has determined that these amendments need not be published as a proposed rule, pursuant to 5 U.S.C. 553(b)(A), since several of these changes are interpretive, procedural in nature, or relate to agency organization. Because this final rule does not make substantive amendments, the Department of Labor has determined that delaying the effective date of the rule is unnecessary and good cause exists under 5 U.S.C. 553(b)(B) to make this rule effective immediately upon publication in the Federal Register.

Small Business Regulatory Enforcement Fairness Act of 1996

This rule is not classified as a “rule” under Chapter 8 of the Small Business Regulatory Enforcement Fairness Act of 1996, because it is a rule pertaining to agency organization, procedure, or practice that does not substantially affect the rights or obligations of non-agency parties. See 5 U.S.C. 804(3)(C).

List of Subjects

20 CFR Part 601

Employment, Grant programs—labor, Reporting and recordkeeping requirements, Unemployment compensation.

20 CFR Part 602

Grant programs—labor, Reporting and recordkeeping requirements, Unemployment compensation.

20 CFR Part 603

Grant programs—labor, Privacy, Reporting and recordkeeping requirements, Unemployment compensation.

20 CFR Part 606

Employment taxes, Reporting and recordkeeping requirements, Unemployment compensation.

20 CFR Part 609

Administrative practice and procedure, Fraud, Government employees, Penalties, Reporting and recordkeeping requirements, Unemployment compensation, Virgin Islands.

20 CFR Part 614

Administrative practice and procedure, Fraud, Intergovernmental requirements, Penalties, Reporting and recordkeeping requirements, Unemployment compensation, Veterans, Virgin Islands.

20 CFR Part 615

Grant programs—labor, Reporting and recordkeeping requirements, Unemployment compensation.

20 CFR Part 616

Unemployment compensation.

20 CFR Part 617

Administrative practice and procedure, Employment, Fraud, Grant programs—labor, Manpower training programs, Relocation assistance, Reporting and recordkeeping requirements, Trade adjustment assistance, Unemployment compensation.

20 CFR Part 625

Administrative practice and procedure, Disaster assistance, Grants programs—labor, Reporting and recordkeeping requirements, Unemployment compensation.

20 CFR Part 640

Reporting and recordkeeping requirements, Unemployment compensation.

20 CFR Part 641

Aged, Employment, Government contracts, Grant programs—labor, Reporting and recordkeeping requirements.

20 CFR Part 650

Reporting and recordkeeping requirements, Unemployment compensation.

20 CFR Part 651

Employment, Grant programs—labor.

20 CFR Part 653

Agriculture, Employment, Equal employment opportunity, Grant programs—labor, Migrant labor, Reporting and recordkeeping requirements.

20 CFR Part 654

Employment, Government procurement, Housing standards, Manpower, Migrant labor, Reporting and recordkeeping requirements.

20 CFR Part 655

Administrative practice and procedure, Aliens, Employment, Forests and forest products, Health professions, Longshore and harbor workers, Migrant labor, Passports and visas, Penalties, Reporting and recordkeeping requirements, Seamen, Students, Wages.

20 CFR Part 656

Administrative practice and procedure, Aliens, Employment, Fraud, Reporting and recordkeeping requirements, Wages.

20 CFR Part 658

Administrative practice and procedure, Employment, Grant programs—labor, Reporting and recordkeeping requirements.

20 CFR Part 661

Employment, Grant programs—labor.

20 CFR Part 662

Employment, Grant programs—labor.

20 CFR Part 667

Employment, Grant programs—labor, Reporting and recordkeeping requirements.

20 CFR Part 668

Employment, Grant programs—labor, Indians, Reporting and recording requirements.

For the reasons set forth in the preamble, DOL amends, parts 601, 602, 603, 606, 609, 614, 615, 616, 617, 625, 640, 641, 650, 651, 653, 654, 655, 656, 658, 661, 662, 667, and 668 of title 20, Code of Federal Regulations, as follows:

PART 601—ADMINISTRATIVE PROCEDURE

1. The authority citation for 20 CFR Part 601 continues to read as follows:

Authority: 5 U.S.C. 301; 26 U.S.C. Chapter 23; 29 U.S.C. 49k; 38 U.S.C. Chapters 41 and 42; 39 U.S.C. 3203(a)(1)(E) and 3202 note; 42 U.S.C. 1302; and Secretary of Labor's Order No. 4-75, 40 FR 18515.

§§ 601.1, 601.2, 601.3, 601.4, 601.5 [Amended]

2. In 20 CFR Part 601, remove the words “Internal Revenue Code of 1954” and add, in their place, the words “Internal Revenue Code of 1986” in the following places:

a. Section 601.1(a) in four places, (b), and (c);

b. Section 601.2 introductory text, (c), and (d);

c. Section 601.3 introductory text, and (b);

d. Section 601.4(a) in three places; and

e. Section 601.5(a)(2), (a)(3), (a)(4), and (c).

§ 601.2 [Amended]

3. Amend § 601.2 by removing the words “Regional Administrator, Employment and Training Administration (RAETA) two copies” and adding, in their place, the words “Employment and Training Administration (ETA), one copy” in paragraph (a); and removing paragraph (b).

§ 601.2 [Amended]

4. In § 601.2(d), remove the words “December 31” and add, in their place, the words “October 31”; and remove the word “he” and add, in its place, the words “the Secretary”.

§ 601.3 [Amended]

5. Amend § 601.3 by removing the words “RAETA two copies” and adding, in their place, the words “ETA one copy” in paragraph (a); and removing and reserving paragraph (b).

§ 601.4 [Amended]

6. In § 601.4(a), remove the word “his” and add, in its place, the words “the Secretary's”; remove the words “December 31” and add, in their place, the words “October 31”; and remove the word “he” and add, in its place, the words “the Secretary”.

§ 601.5 [Amended]

7. Amend § 601.5 as follows:

a. Remove the words “regional and central office” and add, in their place, the word “ETA” in paragraph (b);

b. Remove the word “he” and add, in its place, the words “he/she” in the first instance it appears, and remove the word “he” in the second instance it appears and add, in its place, the words “the Secretary” in paragraph (c);

c. Remove the words “State employment security agency” and add, in their place, the words “State unemployment compensation agency” in paragraph (d) in two places; and

d. Remove paragraph (f).

§ 601.6 [Amended]

8. Amend § 601.6 as follows:

a. Remove the word “insurance” and add, in its place, the words “compensation laws” in the section heading and introductory text;

b. Remove the words “upon request from the Employment and Training Administration, Department of Labor, Washington, DC 20210, and at the regional offices.” and add, in their place, the words “on the ETA Web site (http://www.ows.doleta.gov/rjm).” in paragraph (a);

c. Remove the word “RAETA” and add, in its place, the words “Regional Administrator” paragraphs (b) and (c); and

d. Remove the word “his” and add, in its place, the words “his/her” in paragraph (b).

e. Redesignate existing paragraph (b) as (b)(1) and designate the following undesignated paragraph as paragraph (b)(2).

§ 601.9 [Amended]

9. In § 601.9, remove the words “41 CFR 29-70.207-2(h) and (i), 41 CFR 29-70.207-3, and 41 CFR 29-70.207-4” and add, in their place, the words “29 CFR Part 96 and 29 CFR Part 99”; and remove the word “insurance” and add, in its place, the word “compensation”.

PART 602—QUALITY CONTROL IN THE FEDERAL-STATE UNEMPLOYMENT INSURANCE SYSTEM

10. The authority citation for 20 CFR Part 602 continues to read as follows:

Authority: 42 U.S.C. 1302.

§ 602.1 [Amended]

11. In § 602.1, remove the words “unemployment insurance (UI)” and add, in their place, the words “unemployment compensation (UC)”; and remove the words “State Employment Security Agencies (SESA)” and add, in their place, the words “State unemployment compensation agencies”.

§§ 602.1, 602.2, 602.21, 602.43 [Amended]

12. In 20 CFR Part 602, remove the words “UI” and add, in their place, the words “UC” in the following places:

a. Section 602.1 in two places;

b. Section 602.2;

c. Section 602.21(c) introductory text, and (c)(3); and

d. Section 602.43.

§ 602.2 [Amended]

13. In § 602.2, remove the words “Internal Revenue Code of 1954” and add, in their place, the words “Internal Revenue Code of 1986”; remove the words “SESAs” and add, in their place, the words “State unemployment compensation agencies”; and remove the word “Ex-Servicemen” and add, in its place, the word “Ex-Servicemembers”.

§ 602.10 [Amended]

14. In § 602.10 paragraphs (d)(1) and (d)(2), remove the words “unemployment compensation” and add, in their place, the words “UC”.

§ 602.40 [Amended]

15. In § 602.40(b), remove the word “date” and add, in its place, the word “data”.

PART 603—INCOME AND ELIGIBILITY VERIFICATION SYSTEM

16. The authority citation for 20 CFR Part 603 continues to read as follows:

Authority: Sec. 1102, Social Security Act, ch. 531, 49 Stat. 647, as amended (42 U.S.C. 1302); Reorganization Plan No. 2 of 1949, 63 Stat. 1065, 14 FR 5225.

§ 603.2 [Amended]

17. Amend § 603.2 as follows:

a. Remove the words “Internal Revenue Code of 1954” and add, in their place, the words “Internal Revenue Code of 1986” in paragraph (a); and

b. Remove the words “Aid to Families with Dependent Children” and add, in their place, the words “Temporary Assistance for Needy Families” in paragraph (d)(1).

§ 603.9 [Removed]

18. Remove § 603.9.

§ 603.20 [Removed]

19. Remove § 603.20.

PART 606—TAX CREDITS UNDER THE FEDERAL UNEMPLOYMENT TAX ACT; ADVANCES UNDER TITLE XII OF THE SOCIAL SECURITY ACT

20. The authority for 20 CFR Part 606 continues to read as follows:

Authority: 42 U.S.C. 1102; 26 U.S.C. 7805(a); Secretary's Order No. 4-75 (40 FR 18515).

§ 606.3 [Amended]

21. In § 606.3(c)(2), remove the words “606-3(1)” and add, in their place, the words “606.3(1)”.

§§ 606.4, 606.5, 606.6, 606.20, 606.22, 606.23, 606.24, 606.25, 606.26, 606.41, 606.42, 606.44 [Amended]

22. In 20 CFR Part 606, remove the words “UIS Director” and add, in their place, the words “OWS Administrator” in the following places:

a. Section 606.4(a) in two places;

b. Section 606.5;

c. Section 606.6;

d. Section 606.20(a) introductory text;

e. Section 606.22(a)(2);

f. Section 606.23(a) introductory text, (a)(1)(i), (a)(2), (a)(3), and (b)(2) in two places;

g. Section 606.24(a)(2);

h. Section 606.25;

i. Section 606.26(b);

j. Section 606.41(a), and (e)(2);

k. Section 606.42(c)(2); and

l. Section 606.44 in two places.

§ 606.4 [Amended]

23. In § 606.4(a), remove the words “Director, Unemployment Insurance Service” and add, in their place, the words “Administrator, Office of Workforce Security”.

§ 606.6 [Amended]

24. In § 606.6, remove the last sentence.

§ 606.30 [Amended]

25. In § 606.30, remove the words “on or after April 1, 1982,”.

§ 606.43 [Removed]

26. Remove § 606.43.

PART 609—UNEMPLOYMENT COMPENSATION FOR FEDERAL CIVILIAN EMPLOYEEES

27. The authority for 20 CFR 609 continues to read as follows:

Authority: 5 U.S.C. 8508; Secretary's Order No. 4-75, 40 FR 18515; (5 U.S.C. 301).

§ 609.2 [Amended]

28. In § 609.2, in paragraphs (f)(12)(iii) and (o)(1), remove the words “Internal Revenue Code of 1954” and add, in their place, the words “Internal Revenue Code of 1986”.

§ 609.6 [Amended]

29. In § 609.6(e)(2), remove the word “Fedeal” and add, in its place, the word “Federal”.

§ 609.7 [Amended]

30. In § 609.7(c)(2), remove the word “calenders” and add, in its place, the word “calendars'; and remove the word “unemployent” and add, in its place, the word “Unemployment”.

§ 609.13 [Amended]

31. In § 609.13(b), add the words ”, as amended” after the words “Privacy Act of 1974”.

PART 614—UNEMPLOYMENT COMPENSATION FOR EX-SERVICEMEMBERS

32. The authority for 20 CFR Part 614 continues to read as follows:

Authority: 5 U.S.C. 8508; Secretary's Order No. 4-75 (40 FR 18515).

§ 614.6 [Amended]

33. In § 614.6(g), remove the word “appying” and add, in its place, the word “applying”; and remove the word “consisent” and add, in its place, the word “consistent”.

PART 615—EXTENDED BENEFITS IN THE FEDERAL-STATE UNEMPLOYMENT COMPENSATION PROGRAM

34. The authority for 20 CFR Part 615 continues to read as follows:

Authority: 26 U.S.C. 7805; 42 U.S.C. 1102; Secretary's Order No. 4-75 (40 FR 18515)

§ 615.2 [Amended]

35. In § 615.2(k)(3), remove the words “State Employment Security Agency” and add, in their place, the words “State unemployment compensation agency”

§ 615.5 [Amended]

36. In § 615.5(a)(1)(iii), remove the words “Internal Revenue Code of 1954” and add, in their place, the words “Internal Revenue Code of 1986”.

§ 615.8 [Amended]

37. Amend § 615.8 as follows:

a. Remove the words “State agency” and add, in their place, the words “State Workforce Agency” in paragraphs (e)(1), (e)(2), (e)(3), (e)(6), and (f)(1) introductory text;

b. Remove the second occurrence of the word “or” in paragraph (f)(2)(ii);

c. Add the word “or” after the comma at the end of paragraph (f)(2)(iii); and

d. Add the words “or State Workforce Agency, as applicable” after the words “State agency” in paragraph (h) introductory text.

§ 615.14 [Amended]

38. Amend § 615.14 as follows:

a. Remove the words “, as to weeks beginning after October 31, 1981, except for any State which the State legislature did not meet in 1981 as to weeks beginning after October 1, 1982”; and remove the words “as to weeks beginning after March 31, 1981” in paragraph (b)(1)(i);

b. Remove the words “, as to weeks beginning after September 25, 1982” in paragraph (b)(1)(ii);

c. Remove the words “, as to weeks which begin after May 31, 1981, or May 31, 1982,” in paragraph (b)(2);

d. Remove the words “, that first week begins after December 5, 1980,” in paragraph (c)(3) introductory text;

e. Remove paragraph (c)(3)(i), and redesignate paragraphs (c)(3)(ii) and (c)(3)(iii) as paragraphs (c)(3)(i) and (c)(3)(ii), respectively;

f. Remove the last sentence of paragraph (c)(4); and

g. Remove the last sentence of paragraph (c)(5).

PART 616—INTERSTATE ARRANGEMENT FOR COMBINING EMPLOYMENT AND WAGES AUTHORITY

39. The authority for 20 CFR Part 616 is revised to read as follows:

Authority: Sec. 3304(a)(9)(B), 84 Stat. 702; 26 U.S.C. 3304(a)(9)(B); Secretary's Order No. 4-75, April 16, 1975.

§ 616.2 [Amended]

40. In § 616.2 remove the words “Interstate Conference of Employment Security Agencies” and add, in their place, the words “National Association of State Workforce Agencies (NASWA)”.

41. Amend § 616.6 by revising paragraphs (a) and (e)(2) to read as follows:

§ 616.6 Definitions

* * * * *

(a) State. “State” includes the States of the United States of America, the District of Columbia, the Commonwealth of Puerto Rico, and the Virgin Islands.

* * * * *

(e) * * *

(2) If the State in which a Combined-Wage Claimant files a Combined-Wage Claim is not the Paying State under the criterion set forth in paragraph (e)(1) of this section, or if the Combined-Wage Claim is filed in Canada then the Paying State shall be that State where the Combined-Wage Claimant was last employed in covered employment among the States in which the claimant qualifies for unemployment benefits on the basis of combined employment and wages.

* * * * *

§ 616.7 [Amended]

42. Amend § 616.7 as follows:

a. Remove the word “he” and add, in its place, the words “the individual” in paragraphs (a) introductory text in two places, (a)(2) footnote 1, and (c);

b. Remove the word “He” and add, in its place, the words “The individual” in paragraphs (a) introductory text and (a)(2);

c. Remove the word “He” and add, in its place, the words “The claimant” in paragraph (b)(1);

d. Remove the word “His” and add, in its place, the words “The claimant's” in paragraph (b)(2); and

e. Remove the word “he” and add, in its place, the words “the claimant” in paragraph (b) introductory text, (d) introductory text, (d)(2), and (e).

§§ 616.7, 616.8 [Amended]

43. In 20 CFR Part 616, remove the word “his” and add, in its place, the words “his/her” in the following places:

a. Section 616.7(b)(1), (d) introductory text, and (e); and

b. Section 616.8(a) in the second instance, (b) in two places, (d)(1), (d)(2), and (e).

§ 616.8 [Amended]

44. Amend § 616.8 as follows:

a. Remove the word “his” and add, in its place, the words “the claimant's” in paragraph (a) in the first instance it appears;

b. Remove the word “he” and add, in its place, the words “the claimant” in paragraph (a);

c. Remove the word “he” and add, in its place, the words “he/she” in paragraph (b);

d. Remove the words “Internal Revenue Code of 1954” and add, in their place, the words “Internal Revenue Code of 1986” in paragraph (c)(2).

e. Remove the word “him” and add, in its place, the words “him/her” in paragraph (e);

f. Remove the words “With respect to benefits paid after December 31, 1978, except” and add, in their place, the word “Except” in paragraph (f)(4); and

g. Remove the words “With respect to new claims establishing a benefit year effective on or after July 1, 1977, the” and add, in their place, the word “The”; and remove the words “With respect to new claims effective before July 1, 1977, prior law shall apply.” in paragraph (f)(5).

§ 616.11 [Amended]

45. In § 616.11, remove the word “he” and add, in its place, the words “the Secretary” and remove the words “the ICESA” and add, in their place, the word “NASWA”.

PART 617— TRADE ADJUSTMENT ASSISTANCE FOR WORKERS UNDER THE TRADE ACT

46. The authority citation for 20 CFR Part 617 continues to read as follows:

Authority: 19 U.S.C. 2320; Secretary's Order No. 3-81, 46 FR 31117.

47. Amend § 617.3 as follows:

a. Revise paragraph (m)(1) to read as set forth below:

b. Revise paragraphs (t)(2) and (t)(3)(i) to read as set forth below:

c. Remove the words “Internal Revenue Code of 1954” and add, in its place, the words “Internal Revenue Code of 1986” in paragraph (q)(3);

d. Remove the words “State Employment Security Agency” and add, in their place, the words “State Workforce Agency” and remove the words “title III of the Job Training Partnership Act” and add, in their place, the words “title I, Subchapter B of the Workforce Investment Act” in paragraph (ii); and

e. Remove the words “Internal Revenue Code of 1954” and add, in their place, the words “Internal Revenue Code of 1986” in paragraph (jj).

The revisions read as follows:

§ 617.3 Definitions.

* * * * *

(m) * * *

(1) Basic TRA. With respect to a total qualifying separation (as defined in paragraph (t)(3)(i) of this section) the 104-week period beginning with the first week following the week in which such total qualifying separation occurred; provided, that an individual who has a second or subsequent total qualifying separation within the certification period of the same certification shall be determined to have a new 104-week eligibility period based upon the most recent such total qualifying separation.

* * * * *

(t)(1) * * *

(2) Qualifying separation means for an individual to qualify as an adversely affected worker and for basic TRA, any total separation of the individual within the certification period of a certification with respect to which the individual meets all of the requirements in § 617.11(a)(2)(i) through (iv), and which qualifies as a total qualifying separation as defined in paragraph (B) of (t)(3)(i) of this section.

(3) * * *

(i) For the purposes of determining an individual's eligibility period for basic TRA, the first total separation of the individual within the certification period of a certification, with respect to which the individual meets all of the requirements in § 617.11(a)(2)(i) through (iv).

* * * * *

§ 617.11 [Amended]

48. Amend § 617.11 as follows:

a. Remove and reserve paragraphs (a)(1), (a)(3), and (a)(4);

b. Remove the words “On and after November 21, 1988.” and “that begins on or after November 21, 1988,” in paragraph (a)(2) introductory text;

c. Remove the words “(except in the case of oil and gas workers to whom paragraph (a)(4) of this section applies)” in paragraph (b)(1); and

d. Remove the words “§ 617.11(a)(1)(v) or” and “, as appropriate” in paragraph (b)(2).

§ 617.19 [Amended]

49. Amend § 617.19 as follows:

a. Remove the words “for all weeks beginning on and after November 21, 1988” and add in their place, the words “for each week” in paragraph (a)(1)(i);

b. Remove the words “,for all weeks beginning before November 21, 1988” and add, in their place, the words “for each week” in paragraph (a)(1)(ii); and

c. Remove the words “Job Training Partnership Act (including Title III)” and add, in their place, the words “Title I, Subchapter B of the Workforce Investment Act” in the undesignated paragraph following paragraph (b)(1)(i)(A)(3) and wrap the undesignated text into paragraph (b)(1)(i)(A)(3).

§ 617.20 [Amended]

50. In § 617.20(b)(15), remove the words “Title III of the Job Training Partnership Act” and add, in their place, the words “Title I, Subchapter B of the Workforce Investment Act”.

§ 617.22 [Amended]

51. In § 617.22(a)(4) in the paragraph heading add the word “technical” after the word “vocational”; and remove the words “section 195(2) of the Vocational Education Act of 1963” and add, in their place, the words “Carl D. Perkins Vocational and Applied Technology Education Act”.

§ 617.23 [Amended]

52. Amend § 617.23 as follows:

a. Remove the words “Private Industry Councils (PICs)” and add, in their place the words, “Workforce Investment Boards (WIBs)” and remove the words “Job Training Partnership Act (JTPA)” and add, in their place, the words “Workforce Investment Act (WIA)” in paragraph (a); and

b. Remove the words “Job Service Improvement Program Committees, JTPA SDA grant recipients” and add, in their place, the words “WIBs and other WIA One-Stop partners” and remove the word “PICs” and add, in its place, the word “WIBs” in paragraph (d)(2).

§ 617.24 [Amended]

53. Amend § 617.24 as follows:

a. Remove the words “Title III of the Job Training Partnership Act” and add, in their place, the words “Title I, subchapter B of the Workforce Investment Act” in paragraph (b); and

b. Remove the words “private industry council” and add, in their place, the words “Workforce Investment Board”; and remove the words “Job Training Partnership Act” and add, in their place, the words “Workforce Investment Act” in paragraph (c).

§ 617.27 [Amended]

54. In § 617.27(a), remove the word “JTPA” and add, in its place, the words “Workforce Investment Act”.

§ 617.49 [Amended]

55. Amend § 617.49 as follows:

a. Remove the word “JTPA” and add, in its place, the words “Workforce Investment Act” in paragraph (b)(1); and

b. Remove the words “which begins after November 20, 1988” in paragraph (e).

§ 617.59 [Amended]

56. In § 617.59(h), remove the words “State Service Delivery Areas, Private Industry Councils, and substate grantees under the Job Training Partnership Act” and add, in their place, the words “the Workforce Investment Act”.

§ 617.62 [Removed]

57. Remove § 617.62.

§ 617.63 [Removed]

58. Remove § 617.63.

§ 617.65 [Removed]

59. Remove § 617.65.

§ 617.66 [Removed]

60. Remove § 617.66.

§ 617.67 [Removed]

61. Remove § 617.67.

PART 625—DISASTER UNEMPLOYMENT ASSISTANCE

62. The authority citation for 20 CFR Part 625 continues to read as follows:

Authority: 42 U.S.C. 1302; 42 U.S.C. 5164; 42 U.S.C. 5189a(c); 42 U.S.C. 5201(a); Executive Order 12673 of March 23, 1989 (54 FR 12571); delegation of authority from the Director of the Federal Emergency Management Agency to the Secretary of Labor, effective December 1, 1985 (51 FR 4988); Secretary's Order No. 4-75 (40 FR 18515).

§ 625.2 [Amended]

63. In § 625.2(f) remove “[”.

§§ 625.6, 625.10, 625.30 [Amended]

64. In 20 CFR Part 625, remove the words “Region IX” and add, in their place, the words “Region VI” in the following places:

a. Section 625.6(d);

b. Section 625.10(b)(2); and

c. Section 625.30(h)(1).

§ 625.10 [Amended]

65. Amend § 625.10 as follows:

a. Remove the words “Director, Unemployment Insurance Service” and add, in their place, the words “Administrator, Office of Workforce Security” in paragraphs (c)(5), (d)(2), (d)(4), and (d)(6); and

b. Remove the word “his” and add, in its place, the words “his or her” in paragraph (d)(1).

§ 625.11 [Amended]

66. In § 625.11 section heading, remove the word “Provisons” and add, in its place, the word “Provisions”.

§ 625.14 [Amended]

67. In § 625.14(c), remove the word “aplied” and add, in its place, the word “applied”.

§ 625.20 [Removed]

68. Remove and reserve § 625.20.

PART 640—STANDARD FOR BENEFIT PAYMENT PROMPTNESS—UNEMPLOYMENT COMPENSATION

69. The authority citation for 20 CFR Part 640 continues to read as follows:

Authority: Sec. 1102, Social Security Act (42 U.S.C. 1302); Secretary's order No. 4-75, dated April 16, 1975 (40 FR 18515) (5 U.S.C. 553). Interpret and apply secs. 303(a)(1) and 303(b)(2) of the Social Security Act (42 U.S.C. 503(a)(1), 503(b)(2)).

§ 640.1 [Amended]

70. Amend § 640.1 as follows:

a. Remove the word “act” and add, in its place, the word “Act” in paragraph (a)(1); and

b. Remove the words “Internal Revenue Code of 1954” and add, in their place, “Internal Revenue Code of 1986” in paragraph (b)(1).

71. In § 640.5 the Intrastate and Interstate Claims table is revised to read as follows:

§ 640.5 Criteria for compliance.

* * * * *

| Percentage of first payments issued—days following end of first compensable week: 14 days, waiting week States | Percentage of first payments issued—days following end of first compensable week: 21 days, nonwaiting week States ¹ | Percentage of first payments issued—days following end of first compensable week: 35 days, all States
Intrastate Claims
Performance to be achieved for the 12-mo. period ending on March 31 of each year | 87 | 87 | 93
Interstate Claims
Performance to be achieved for the 12-mo. period ending on March 31 of each year | 70 | 70 | 78
¹ A nonwaiting week State is any State whose law does not require that a non-compensable period of unemployment be served before the payment of benefits commences.

* * * * *

PART 641—PROVISIONS GOVERNING THE SENIOR COMMUNITY SERVICE EMPLOYMENT PROGRAM

72. The authority citation for 20 CFR Part 641 continues to read as follows:

Authority: 42 U.S.C. 3056 et seq.

73. Revise § 641.490 (b) to read as follows:

§ 641.490 When may SCSEP grants be awarded competitively?

* * * * *

(b) The Department may hold a full and open competition before the beginning of a new grant period, or if additional grantees are funded. The details of the competition will be provided in a Solicitation for Grant Applications published in the Federal Register or in another medium. The Department believes that full and open competition is the best way to assure the highest quality of services to eligible participants.

§ 641.690 [Amended]

74. In § 641.690(a)(3), remove the word “increase”.

§ 641.700 [Amended]

75. In § 641.700(b), remove the word “increase”.

76. Revise § 641.710 (b)(9) to read as follows:

§ 641.710 How are these performance indicators defined?

* * * * *

(b) * * *

(9) Earnings means the total earnings in the second quarter plus total earnings in the third quarter after the exit quarter divided by the number of participants who exit during the quarter, for those who are employed in the first, second, and third quarters after the exit quarter.

* * * * *

77. Revise § 641.715 (c) to read as follows:

§ 641.715 What are the common performance measures?

* * * * *

(c) Earnings, defined as the total earnings in the second quarter plus total earnings in the third quarter after the exit quarter divided by the number of participants who exit during the quarter, for those who are employed in the first, second, and third quarters after the exit quarter.

* * * * *

§ 641.800 [Amended]

78. In § 640.800(c), remove the words “OMB Circular A-110, codified at 29 CFR part 95” and add, in their place, the words “OMB Circular A-110, codified at 2 CFR part 215 and 29 CFR part 95”.

PART 650—STANDARD FOR APPEALS PROMPTNESS—UNEMPLOYMENT COMPENSATION

79. The authority citation for 20 CFR Part 650 continues to read as follows:

Authority: Sec. 1102 of the Social Security Act, 42 U.S.C. 1302; Secretary's Order No. 4-75, dated April 16, 1975. Interpret and apply secs. 303(a)(1), 303(a)(3), and 303(b)(2) of the Social Security Act (42 U.S.C. 503(a)(1), 503(a)(3), 503(b)(2)).

§ 650.4 [Amended]

80. Amend § 650.4 as follows:

a. Remove the words “after calendar year 1973” in paragraph (a);

b. Remove the words “if for the calendar year 1975 and ensuing years”; and remove the words “employment security” and add, in their place, the words “unemployment compensation” in paragraph (b) and in footnote 1 respectively; and

c. Remove paragraph (c).

§ 650.5 [Amended]

81. In § 650.5, remove the words “December 15, 1974, and the 15th of December of each ensuing year” and add, in their place, the words “December 15 of each year”.

PART 651—GENERAL PROVISIONS GOVERNING THE FEDERAL-STATE EMPLOYMENT SERVICE

82. The authority citation for 20 CFR Part 651 continues to read as follows:

Authority: Wagner-Peyser Act of 1933, as amended, 29 U.S.C. 49 et seq.; 5 U.S.C. 301; and 38 U.S.C. chapters 41 and 42.

83. Amend § 651.10 as follows:

a. Remove from the definition of Agricultural worker the words “Standard Industrial Classification (SIC) of 01-07, except 027, 074, 0752, and 078” and add, in their place, the words “North American Industry Classification System (NAICS) 111, 112, and 115 (excluding the following codes: 1125 (under 112) and 1152 and 1153 (under 115))”;

b. Remove from the definition of Farmwork the words “in establishments included in industries 01—Agricultural Production-Crops; 02—Agricultural Production-Livestock excluding 027—Animal Specialties; 07—Agricultural Services excluding 074—Veterinary Services, 0752—Animal Specialty Services, and 078—Landscape and Horticultural Services, as defined in the most recent edition of the Standard Industrial Classification (SIC) code definitions.” and add, in their place, the words “North American Industry Classification System (NAICS) 111, 112, and 115 (excluding the following codes: 1125 (under 112) and 1152 and 1153 (under 115))”;

c. Remove from the definition of Migrant food processing worker the words “1972 Standard Industrial Classification (SIC) definitions 201, 2033, 2035, and 2037” and add, in their place, the words “North American Industry Classification System (NAICS) 311411, 311611, 311421”;

d. Remove from the definition of Job bank the words “and WIN”.

e. Remove from the definition of Program Budget Plan (PBP) the words “SESA” and “SESA's”, and add, in their place, the words “SWA” and “SWA's” respectively;

f. Remove the definitions of “Administrator, United States Employment Service (Administrator)”, “Dictionary of Occupational Titles (DOT)”, “D.O.T”, “SESA”, “State Employment Security Agency (SESA)”; and “Work Incentive Program (WIN).”;

g. Add, in alphabetical order, definitions for “Administrator, Office of Workforce Investment (OWI Administrator)”, “Occupational Information Network (O*NET)”, “O*NET-SOC”, and “State Workforce Agency(SWA)”.

§ 651.10 Definitions of terms used in parts 651-658.

Administrator, Office of Workforce Investment (OWI Administrator) means the chief official of the Office of Workforce Investment (OWI) or the Administrator's designee.

* * * * *

Occupational Information Network (O*NET) means the online reference database which contains detailed descriptions of U.S. occupations, distinguishing characteristics, classification codes, and information on tasks, knowledge, skills, abilities, and work activities as well as information on interests, work styles, and work values.

O*NET-SOC means Standard Occupational Classification (SOC) titles and codes are used by Federal statistical agencies to classify workers into occupational categories for the purpose of collecting, calculating and disseminating data. DOL uses O*NET-SOC titles and codes for the purposes of reporting data on training, certifications, and placement in employment by occupation.

* * * * *

State Workforce Agency (SWA), formerly State Employment Security Agency or SESA, means the State agency which, under the State Administrator, is designated by the Governor to administer Wagner-Peyser Act funded employment and workforce information services (State Agency) and the State unemployment compensation program.

* * * * *

PART 653—SERVICES OF THE EMPLOYMENT SERVICE SYSTEM

84. The authority citation for 20 CFR Part 653 continues to read as follows:

Authority: 38 U.S.C. chapters 41 and 42; Wagner-Peyser Act, as amended, 29 U.S.C. 49 et seq.; sec. 104 of the Emergency Jobs and Unemployment Assistance Act of 1974 Pub. L. 93-567, 88 Stat. 1845, unless otherwise noted.

§ 653.103 [Amended]

85. In § 653.103(d), remove the words “Dictionary of Occupational Titles” and “D.O.T” and add, in their place, the words “Occupational Informational Network (O*NET)” and “O*NET-SOC”, respectively.

§§ 653.107, 653.108, 653.111 [Amended]

86. In 20 Part 653, remove the words “CETA 303” and add, in their place, the words “WIA 167 National Farmworker Jobs Program” in the following places:

a. Section 563.107(c)(1)(iv), and (d) introductory text in two places;

b. Section 653.108 (k); and

c. Section 653.111 (d) in two places.

§§ 653.108, 653.501 [Amended]

87. In 20 Part 653, remove the words “USES Administrator” and add, in their place, the words “OWI Administrator” in the following places:

a. Section 653.108(d)(1); and

b. Section 653.501(j).

§ 653.109 [Amended]

88. In § 653.109(a), remove the words “the ESARS Handbook and applicable ETA Reports and Analysis Letters.” and add, in their place, the words “applicable ETA Reports and Guidance Letters.”

§ 653.111 [Amended]

89. In § 653.111(f), remove the words “State Employment Security Agencies (SESAs)” and “SESAs”, and add, in their place, the words “State Workforce Agencies (SWAs)” and “SWAs” respectively.

PART 654—SPECIAL RESPONSIBILITIES OF THE EMPLOYMENT SERVICE SYSTEM

90. The authority citation for 20 CFR Part 654 continues to read as follows:

Authority: 41 U.S.C. 10a et seq; 29 U.S.C. 49 et seq; 15 U.S.C. 644(n); E.O. 12073; 10582, as amended by E.O. 11051 and 12148.

§ 654.5 [Amended]

91. In § 654.5(b), remove the words “State employment security agency” and add, in their place the words “State Workforce Agency”.

§ 654.8 [Amended]

92. In § 654.8 introductory text, remove the words “State employment service agencies” and add, in their place, the words “State Workforce Agencies”.

PART 655—TEMPORARY EMPLOYMENT OF ALIENS IN THE UNITED STATES

93. The authority citation for 20 CFR Part 655 continues to read as follows:

Authority: Section 655.0 issued under 8 U.S.C. 1101(a)(15)(H)(i) and (ii), 1182(m), (n), and (t), 1184, 1188, and 1288(c) and (d); 29 U.S.C. 49 et seq.; sec. 3(c)(1), Pub. L. 101-238, 103 Stat. 2099, 2102 (8 U.S.C. 1182 note); sec. 221(a), Pub. L. 101-649, 104 Stat. 4978, 5027 (8 U.S.C. 1184 note); sec. 323, Pub. L. 103-206, 107 Stat. 2149; Title IV, Pub. L. 105-277, 112 Stat. 2681; Pub. L. 106-95, 113 Stat. 1312 (8 U.S.C. 1182 note); and 8 CFR 213.2(h)(4)(i).

94. Revise § 655.00 to read as follows:

§ 655.00 Authority of the Office of Foreign Labor Certification (OFLC) Administrator under subparts A, B, and C.

Pursuant to the regulations under this part, temporary labor certification determinations under subparts A, B, and C of this part are ordinarily made by the Office of Foreign Labor Certification (OFLC) Administrator (OFLC Administrator) of the Employment and Training Administration. The OFLC Administrator will informally advise the employer or agent of the name of the official who will make determinations with respect to the application.

§ 655.2 [Amended]

95. In § 655.2, remove the words “the local office of the State employment service” and add, in their place, the words “the appropriate State Workforce Agency”.

§ 655.3 [Amended]

96. Amend § 655.3 as follows:

a. Remove the words “local office of the State employment service” and “Regional Administrator, Employment and Training Administration”, and add, in their place, the words “State Workforce Agency” and “National Processing Center” respectively in paragraph (a); and

b. Remove the words “District Director of the” in paragraph (d).

97. Revise 655.92 to read as follows:

§ 655.92 Authority of the Office of Foreign Labor Certification (OFLC) Administrator.

Under this subpart, the accepting for consideration and the making of temporary alien agricultural labor certification determinations are ordinarily performed by the Office of Foreign Labor Certification (OFLC) Administrator (OFLC Administrator), who, in turn, may delegate this responsibility to a designated staff member. The OFLC Administrator will informally advise the employer or agent of the name of the official who will make determinations with respect to the application.

§ 655.93 [Amended]

98. In § 655.93(b), remove the words “, appropriate RAs,”.

99. Amend § 655.100 as follows:

a. Remove the words “having jurisdiction over the geographical area in which the work will be performed” in paragraph (a)(1);

b. Remove from the definition State Agency the words “the USES” and add, in their place, the word “OFLC” in paragraph (b);

c. Remove the definitions of “Director”, “Immigration and Naturalization Service”, “Employment Service”, “Regional Administrator, Employment and Training Administration (RA)”, “Local office”, and “United States Employment Service (USES)” in paragraph (b); and

d. In paragraph (b), add, in alphabetical order, definitions for “Administrator, Office of Foreign Labor Certification (OFLC)”, “Employment Service (ES) and Employment Service (ES) System”, “Department of Homeland Security (DHS) through the United States Citizenship and Immigration Services (USCIS)”, and “Office of Foreign Labor Certification (OFLC)” to read as follows:

§ 655.100 Overview of this subpart and definition of terms.

* * * * *

(b) * * *

Administrator, Office of Foreign Labor Certification (OFLC) means the primary official of the Office of Foreign Labor Certification (OFLC Administrator), or the OFLC Administrator's designee.

* * * * *

Department of Homeland Security (DHS) through the United States Citizenship and Immigration Services (USCIS) makes the determination under the INA on whether or not to grant visa petitions to employers seeking H-2A workers to perform temporary agricultural work in the United States.

* * * * *

Employment Service (ES), in this subpart, refers to the system of federal and state entities responsible for administration of the labor certification process for temporary and seasonal agricultural employment of nonimmigrant foreign workers. This includes the State Workforce Agencies (SWAs), the National Processing Centers (NPCs) and the Office of Foreign Labor Certification (OFLC).

* * * * *

Office of Foreign Labor Certification (OFLC) means the organizational component within the ETA that provides national leadership and policy guidance and develops regulations and procedures to carry out the responsibilities of the Secretary of Labor under the INA concerning alien workers seeking admission to the United States in order to work under the Immigration and Nationality Act, as amended.

* * * * *

§ 655.101 [Amended]

100. Amend § 655.101 as follows:

a. Remove the words “in whose region the area of intended employment is located.” in paragraph (a)(1); and

b. Remove and reserve paragraph (c)(5).

101. Amend § 655.104 as follows:

a. Revise paragraph (a) to read as set forth below; and

b. Revise the heading of paragraph (b) to read as follows:

§ 655.104 Determinations based on acceptability of H-2A applications.

(a) State Workforce Agency activities. The State Workforce Agency (SWA), using the job offer portion of the H-2A application, shall promptly prepare a local job order and shall begin to recruit U.S. workers in the area of intended employment. The OFLC Administrator should notify the SWA by telephone no later than seven calendar days after the application was received by the OFLC Administrator if the application has been accepted for consideration. Upon receiving such notice or seven calendar days after the application is received by the SWA, whichever is earlier, the SWA shall promptly prepare an agricultural clearance order which will permit the recruitment of U.S. workers by the Employment Service System on an intrastate and interstate basis.

(b) National Processing Center activities. * * *

* * * * *

§ 655.105 [Amended]

102. Amend § 655.105 as follows:

a. Remove the words “the RA, under the direction of the ETA national office and with the assistance of other RAs with respect to areas outside the region,” and add, in their place, the words “the OFLC Administrator” in paragraph (b);

b. Remove the words “the RA, with the Director's concurrence,” and add, in their place, the words “the OFLC Administrator” in paragraph (c); and

c. Remove the words “and local office” in paragraph (d).

103. Amend § 655.106 as follows:

a. Remove the words “or lockout and the vacancies directly attributable through the receipt by the RA of a written report from the State agency written following an investigation by the State agency (made under the oversight of the RA) of the situation and after the RA has consulted with the Director” and add, in their place, the words “or lockout and any resulting vacancies” in the undesignated paragraph following paragraph (b)(1)(v).

b. Remove the words “local employment office” and add, in their place, the word “SWA” in paragraphs (e)(1)(i), (e)(1)(ii)(A), and (e)(1)(ii)(B);

c. Remove the words “local office” and add, in their place, the word “SWA” in paragraphs (e)(1)(i) in two places, (e)(1)(ii)(A) in two places, and (e)(1)(ii)(B); and

d. Revise the heading of paragraph (h)(3) to read as follows:

§ 655.106 Referral of U.S. Workers; determinations based on U.S. workers availability and adverse effect; activities after receipt of the temporary alien agricultural labor certification.

* * * * *

(h) * * *

(3) National Processing Center review. * * *

* * * * *

§ 655.110 [Amended]

104. Amend § 655.110 as follows:

a. Remove the words “, after consultation with the Director” in paragraph (a);

b. Remove the words “(with the concurrence of the Director)” in paragraph (c)(2).

§ 655.112 [Amended]

105. In § 655.112, remove the words “the Director,” in paragraph (a)(2); and in paragraph (b)(2), remove the word “Director,”

106. Amend § 655.200 as follows:

a. Remove in two places the words “a Department of Labor Hearing Officer” and add, in their place, the words “an Administrative Law Judge”; remove the words “a local office of the State employment service agency” and add, in their place, the words “an appropriate State Workforce Agency”; and remove the words “Where the application is timely and meets the regulatory standards, the State employment service agency” and add, in their place, the words “Where the application is timely and meets the regulatory standards, the State Workforce Agency” in paragraph (b);

b. Remove from the definition of Temporary labor certification the words “Immigration and Naturalization Service” and add, in their place, the words “United States Citizenship and Immigration Services (USCIS) of the Department of Homeland Security (DHS)” in paragraph (c);

c. Remove the definitions of “Administrator”, “Immigration and Naturalization Service (INS)” “Hearing Officer”, “Local office”, and “Regional Administrator, Employment and Training Administration (RA)”, and “United States Employment Service (USES)” in paragraph (c);

d. In paragraph (c), add definitions for “Administrative Law Judge”, “Administrator, Office of Foreign Labor Certification (OFLC Administrator)”, “Department of Homeland Security (DHS) through the United States Citizenship and Immigration Services (USCIS)”, and “Office of Foreign Labor Certification (OFLC)” to read as follows:

§ 655.200 General description of this subpart and definition of terms.

* * * * *

(c) * * *

Administrative Law Judge means an official who is authorized to conduct administrative hearings.

Administrator, Office of Foreign Labor Certification (OFLC Administrator) means the primary official of the Office of Foreign Labor Certification or the OFLC Administrator's designee.

* * * * *

Department of Homeland Security (DHS) through the United States Citizenship and Immigration Services (USCIS) makes the determination under the INA on whether or not to grant visa petitions to an alien seeking to perform temporary agricultural or logging work in the United States.

* * * * *

Office of Foreign Labor Certification (OFLC) means the organizational component within the ETA that provides national leadership and policy guidance and develops regulations and procedures to carry out the responsibilities of the Secretary of Labor under the INA concerning alien workers seeking admission to the United States in order to work under the Immigration and Nationality Act, as amended.

* * * * *

§ 655.204 [Amended]

107. Remove the words “and the Administrator” in paragraph (d) introductory text; and remove the words “by a Department of Labor (DOL) Hearing Officer” and add, in their place, the words “by an Administrative Law Judge” in paragraph (d)(2).

§ 655.205 [Amended]

108. Amend § 655.205 as follows:

a. Remove the words “and local office” in the first sentence of paragraph (a) and the second sentence of paragraph (c); and

b. Remove the words “the RA, under the direction of the ETA national office and with the assistance of other RAs with respect to areas outside the region,” and add, in their place, the words “OFLC Administrator” in paragraph (b).

§ 655.206 [Amended]

109. In § 655.206(d)(2), remove the words “The ES system” and add, in their place the words “The State Workforce Agency (SWA) system”.

§ 655.209 [Amended]

110. In § 655.209, in the second sentence, remove the words “becomes known to a Regional Administrator, Employment and Training Administration or to the Administrator, the Regional Administrator or Administrator as appropriate, shall notify the” and add, in their place, the words “becomes known to the OFLC Administrator, the OFLC Administrator shall notify the”.

§ 655.212 [Amended]

111. Amend § 655.212 as follows:

a. Remove the words “a Hearing Officer” and add, in their place, the words “an Administrative Law Judge” in the first sentence in paragraph (a);

b. Remove “The Hearing Officer” and add, in their place, the words “The Administrative Law Judge” in the second sentence in paragraph (a) and in paragraph (b) in two places; and

c. Remove the words “the Hearing Officer” and add, in their place, the words “the Administrative Law Judge”; and remove the word “Administrator,” in the second sentence in paragraph (b).

§ 655.500 [Amended]

112. In § 655.500(a)(2), in the second sentence, remove the words “The Department of Justice, through the Immigration and Naturalization Service (INS), determines” and add, in their place, the words “The Department of Homeland Security (DHS) through the United States Citizenship and Immigration Services (USCIS), determines”.

113. Amend § 655.502 as follows:

a. Remove the definitions of “Certifying Officer”, “Chief, Division of Foreign Labor Certifications, USES”, “Director”, “Immigration and Nationalization Service (INS)”, “Regional Administrator, Employment and Training Administration (RA)” and “United States Employment Service (USES)”; and

b. Add the definitions for “Administrator, Office of Foreign Labor Certification (OFLC Administrator)”, “Certifying Officer (CO)”, “Department of Homeland Security (DHS) through the United States Citizenship and Immigration Services (USCIS)”, and “Office of Foreign Labor Certification (OFLC)” to read as follow:

§ 655.502 Definitions.

* * * * *

Administrator, Office of Foreign Labor Certification (OFLC Administrator) means the primary official of the Office of Foreign Labor Certification (OFLC Administrator), or the OFLC Administrator's designee.

* * * * *

Certifying Officer (CO) means a Department of Labor official, or the CO's designee, who makes determinations about whether or not to grant applications for labor certification. The National Certifying Officer, which is the OFLC Administrator, makes such determinations in the national office of the OFLC.

* * * * *

Department of Homeland Security (DHS) through the United States Citizenship and Immigration Services (USCIS) makes the determination under the Act on whether an employer of alien crewmembers may use such crewmembers for longshore work at a U.S. port.

* * * * *

Office of Foreign Labor Certification (OFLC) means the organizational component within the ETA that provides national leadership and policy guidance and develops regulations and procedures to carry out the responsibilities of the Secretary of Labor under the INA concerning alien workers seeking admission to the United States in order to work under the Immigration and Nationality Act, as amended.

* * * * *

§ 655.510 [Amended]

114. Amend § 655.510 as follows:

a. Remove the words “ETA Regional Office(s) which are designated by the Chief, Division of Foreign Labor Certifications, USES” and add, in their place, “office(s) which are designated by the OFLC Administrator” in the first sentence in paragraph (b)(1);

b. Remove the words “are available at all Department of Labor ETA Regional Offices and at the National Office.” and add, in their place, the words “are available at the National Processing Centers and at the National Office.” in the third sentence in paragraph (c)(1); and

c. Remove the words “regional Certifying Officer” and add, in their place, the words “Certifying Officer” in the first three sentences in paragraph (g) introductory text, the first sentence in paragraph (h), and the last sentence in paragraph (j)(1).

§ 655.533 [Amended]

115. In § 655.533(a), remove the words “are available at all Department of Labor Regional Offices and at the National Office.” and add, in their place, the words “are available at the National Processing Centers and at the National Office.”

§ 655.665 [Amended]

116. In § 655.665, remove from the section heading the words “the Attorney General” and add, in their place, “the Department of Homeland Security”.

§ 655.700 [Amended]

117. In § 655.700(d)(1), remove the words “(now USCIS)”.

§ 655.705 [Amended]

118. Amend § 655.705 as follows:

a. Remove from the introductory text the words “Three federal agencies (Department of Labor, Department of State, and Department of Justice)” and add, in their place, the words “Four federal agencies (Department of Labor, Department of State, Department of Justice, and Department of Homeland Security)”;

b. Remove the words “Room C-4318” and add, in their place, the words “Room C-4312” in paragraph (a)(1); and

c. Remove the words “Department of Justice (DOJ) and Department of State (DOS)” and add, in their place, the words “Department of Justice (DOJ), Department of Homeland Security (DHS) and Department of State (DOS)” in the heading to paragraph (b); and remove the words “The Department of Justice, through the Immigration and Naturalization Service (INS)” and add, in their place, the word “DHS” and remove the words “The Department of Justice, through the INS” and add, in their place, the word “DHS” in the second sentence of paragraph (b) respectively.

119. Amend § 655.715 as follows:

a. In the definition of Employment and Training Administration (ETA), remove the words “Office of Workforce Security (OWS)” and add, in their place, the words “Office of Foreign Labor Certification (OFLC)”; in the definitions of Employer and in paragraph (3) of Specialty Occupation remove the words, “(formerly the Immigration and Naturalization Service or INS)”; and in paragraph (2) of the definition of United States worker (“U.S. worker”) remove the words “(by the INA or by the Attorney General)” and add, in their place, “(by the INA or by DHS)”;

b. Remove the definitions of “Immigration and Naturalization Service (INS)”, “Office of Workforce Security (OWS)” and “State Employment Security Agency”; and

c. Add, in alphabetical order, the definitions of “Department of Homeland Security (DHS) through the United States Citizenship and Immigration Services (USCIS)”, “Office of Foreign Labor Certification (OFLC)”, and “State Workforce Agency, formerly State Employment Security Agency or SESA” to read as follows:

§ 655.715 Definitions

* * * * *

Department of Homeland Security (DHS) through the United States Citizenship and Immigration Services (USCIS) makes the determination under the INA on whether to grant visa petitions of employers seeking the admission of non-immigrants under H-1B visa for the purpose of employment.

* * * * *

Office of Foreign Labor Certification (OFLC) means the organizational component within the ETA that provides national leadership and policy guidance and develops regulations and procedures to carry out the responsibilities of the Secretary of Labor under the INA concerning alien workers seeking admission to the United States in order to work under the Immigration and Nationality Act, as amended.

* * * * *

State Workforce Agency, formerly State Employment Security Agency or SESA means the State agency which, under the State Administrator, is designated by the Governor to administer Wagner-Peyser Act funded employment and workforce information services (State agency) and the State unemployment compensation program.

* * * * *

§ 655.730 [Amended]

120. Amend § 655.730 as follows:

a. Remove the words “Employer Identification Number (EIN)” and add, in their place, the words “Federal Employer Identification Number (FEIN)” in paragraph (e)(1) introductory text; and

b. Remove the words “employer identification number (EIN)” and add, in their place, the words “Federal Employer Identification Number (FEIN)” in paragraph (e)(1)(iii).

§ 655.731 [Amended]

121. Amend § 655.731 as follows:

a. Remove the words “State Employment Security Agency (SESA) (now known as State Workforce Agency or SWA)” and add, in their place, the word “SWA” in paragraph (a)(2) introductory text;

b. Remove the words “SESA (now known as State Workforce Agency or SWA)” and add, in their place, the word “SWA” in paragraph (a)(2)(ii)(A); and

c. Remove the word “SESA” and add, in its place, the word “SWA” in paragraphs (a)(2)(ii)(A) in three places, (a)(2)(ii)(A)(1) in five places, (a)(2)(ii)(A)(2) in three places, (a)(2)(ii)(A)(3) in three places, (a)(2)(ii)(B), (b)(3)(iii)(A), (d)(2) introductory text, and (d)(3).

§ 655.760 [Amended]

122. Amend § 655.760 as follows:

a. Remove the word “EIN” and add, in its place, the word “FEIN” in paragraph (a)(7); and

b. Remove the word “Division” and add, in its place, the word “Office” in the last sentence in paragraph (b).

§§ 655.3, 655.204, 655.212 [Amended]

123. In 20 CFR Part 655, remove the words “Regional Administrator” and add, in their place, the words “OFLC Administrator” in the following places:

a. Section 655.3(c);

b. Section 655.204(d)(2); and

c. Section 655.212(a) in two places.

§§ 655.100, 655.200, 655.201 [Amended]

123A. In 20 CFR Part 655, remove the words “Regional Administrator (RA)” and add, in their place, the words “OFLC Administrator” in the following places:

a. Section 655.100(a)(1), second sentence;

b. Section 655.200(b), third sentence; and

c. Section 655.201(e), first sentence.

§§ 655.3, 655.4, 655.200, 655.215, 655.501, 655.700, 655.801 [Amended]

124. In 20 CFR Part 655, remove the words “Immigration and Naturalization Service” and add, in their place, the words “United States Citizenship and Immigration Services of the Department of Homeland Security” in the following places:

a. Section 655.3(d);

b. Section 655.4;

c. Section 655.200(b);

d. Section 655.215;

e. Section 655.501(b)(1);

f. Section 655.700(a)(3), and (d)(1); and

g. Section 655.801(c).

§§ 655.4, 655.100, 655.106, 655.108, 655.112, 655.200, 655.201, 655.204, 655.208, 655.209, 655.212, 655.215, 655.501, 655.510, 655.538, 655.700, 655.705, 655.731, 655.733, 655.736, 655.737, 655.740, 655.750, 655.801, 655.805 [Amended]

125. In 20 CFR Part 655 remove the word “INS” and add, in its place, the word “DHS” in the following places:

a. Section 655.4;

b. Section 655.100(b) in the definition of Temporary alien agricultural labor certification;

c. Section 655.106(c)(3)(i) in three places and (c)(3)(ii) in two places;

d. Section 655.108(a) and (c);

e. Section 655.112(a)(2) and (b)(2);

f. Section 655.200(b) in four places;

g. Section 655.201(c) and (e) in two places;

h. Section 655.204(d)(3)(i) in two places and (d)(3)(ii) in two places;

i. Section 655.208(a) and (c);

j. Section 655.209 in two places;

k. Section 655.212(b);

l. Section 655.215 in two places;

m. Section 655.501(b)(1) and (b)(2);

n. Section 655.510(g)(1)(i) in two places and (g)(2)(vii);

o. Section 655.538(a)(1) in two places and (b)(6);

p. Section 655.700(a)(3), (b)(2) in six places, (b)(3) in two places, (c)(2), and (d)(1) in the second instance;

q. Section 655.705(b) in the first, third, fourth and fifth instances, (c)(3), and (c)(4) in two places;

r. Section 655.731(c)(6)(ii), (c)(7)(i), and (c)(7)(ii) in two places;

s. Section 655.733 introductory text, (a) introductory text, (a)(2) in the heading and in two places;

t. Section 655.736(d) introductory text;

u. Section 655.737(d)(1) in two places, (e)(1) in three places;

v. Section 655.740(a)(1) in three places;

w. Section 655.750(b)(5) in two places, and (c)(2);

x. Section 655.801(a)(1); and

y. Section 655.805(a)(11) and (d).

§§ 655.93, 655.100, 655.102, 655.107, 655.111 [Amended]

126. In 20 CFR Part 655 remove the word “Director” and add, in its place, the word “OFLC Administrator” in the following places:

a. Section 655.93(b) in five places and (c) in two places;

b. Section 655.100(b) in the definition of Adverse effect wage rate (AEWR);

c. Section 655.102(b)(4), last sentence;

d. Section 655.107(a) in two places and (b) and;

e. Section 655.111(a), seventh sentence.

§§ 655.100, 655.200 [Amended]

127. In 20 CFR Part 655, revise the definition heading “State agency” to read “State Workforce Agency (SWA)” in the following places:

a. Section 655.100(b); and

b. Section 655.200(c).

§§ 655.100, 655.200, 655.502 [Amended]

128. In 20 CFR Part 655, in the definition Employment Training Administration (ETA), remove the words “which includes the United States Employment Service (USES)” and add, in their place, the words “which includes the Office of Foreign Labor (OFLC)” in the following places:

a. Section 655.100(b);

b. Section 655.200(c); and

c. Section 655.502.

§§ 655.100, 655.101, 655.102, 655.103, 655.104, 655.105, 655.106, 655.108, 655.110, 655.111, 655.112, 655.200, 655.201, 655.202, 655.203, 655.204, 655.205, 655.206, 655.208, 655.210, 655.211, 655.212 [Amended]

129. In 20 CFR Part 655, remove the word “RA” and add, in its place, the word “OFLC Administrator” in the following places:

a. Section 655.100(a)(1) in three places, (a)(2), (a)(3) in two places, (a)(4)(i), (a)(4)(ii), (a)(4)(iii)(A), (a)(4)(iii)(B), and (b) in the definitions of Accept for consideration and Temporary alien agricultural labor certification determination;

b. Section 655.101(a)(1) in two places, (a)(3), (c) in two places, (c)(1) in five places, (c)(2) in nine places, (c)(4) in three places, (c)(5), (c)(5)(ii) in two places, (c)(5)(iii), (d), (e) in two places, (f)(1), (f)(2) in three places, and (g) in two places;

c. Section 655.102(b)(1)(iii), (b)(2), (b)(3), (b)(4), (b)(6)(iv), (b)(9)(ii)(B)(1), (b)(9)(ii)(B)(2), and (c) in two places;

d. Section 655.103(d)(2) in two places, (f), and (h)(2);

e. Section 655.104(b) in five places, (c) in two places, (c)(2), (c)(3) in two places, and (e) in five places;

f. Section 655.105(a) in seven places, (c) in three places, (d) in three places, and (e);

g. Section 655.106(b)(1) in eight places, (b)(1)(iii), (b)(1)(v) in the first three instances, (b)(2)(ii), (c)(1), (c)(3)(ii) in four places, (d) in two places, (f)(1)(i), (f)(1)(iii), (f)(2), (g)(2) in two places, (g)(3), (g)(4) in six places, (h)(1) in three places, (h)(2) in two places, (h)(2)(i) in two places, (h)(2)(ii) in four places, (h)(3)(i) in two places, (h)(3)(ii) in three places, and (h)(3)(iii) in four places;

h. Section 655.108(a) in two places, (b), and (c);

i. Section 655.110(a) in seven places, (b) in three places, (c)(1) in four places, (c)(2) in five places, (d) in two places, (e) in two places, (f) in two places, (g)(1), and (g)(1)(ii);

j. Section 655.111(a) in three places, and (b);

k. Section 655.112(a)(1 ), (a)(2) in two places, (b)(1), and (b)(2) in two places;

l. Section 655.200(b) in six places;

m. Section 655.201(c) in two places, (d) and (e) in four places;

n. Section 655.202(b)(4), (b)(9)(ii)(B)(1), (b)(9)(ii)(B)(2), and (b)(12);

o. Section 655.203(f);

p. Section 655.204(a), (c) in five places, (d), (d)(2), (d)(3)(i), and (d)(3)(ii);

q. Section 655.205(a) in three places, and (c) in three places;

r. Section 655.206(a) in six places and (c) in two places;

s. Section 655.208(a) in two places and (b);

t. Section 655.210(a) in five places;

u. Section 655.211(a) in two places; and

v. Section 655.212(b) in two places.

§§ 655.101, 655.102, 655.103, 655.104, 655.106, 655.201, 655.204 [Amended]

130. In 20 CFR Part 655 remove the words “local office” and add, in their place, the word “SWA” in the following places:

a. Section 655.101(a)(1), (c)(2) in two places, (c)(3), and (c)(4) in three places;

b. Section 655.102(b)(11);

c. Section 655.103(c);

d. Section 655.104(c);

e. Section 655.106(g)(1) in two places, (g)(2) in two places, (g)(3),(h)(2)(ii) and (h)(3)(i);

f. Section 655.201(a)(1), (c), and (e); and

g. Section 655.204(a), (b), and (d).

§§ 655.103, 655.203 [Amended]

131. In 20 CFR Part 655, remove the words “a local employment services office in their area” and add, in their place, the words “the appropriate office of the State Workforce Agency in their area” in the following places:

a. Section 655.103(d)(2)(ii); and

b. Section 655.203(d)(2)(ii).

§§ 655.105, 655.205 [Amended]

132. In 20 CFR Part 655 remove, the words “state agency” and add, in their place, the word “SWA” in the following places:

a. Section 655.105(b), and (d); and

b. Section 655.205(a), and (b).

§§ 655.200, 655.202, 655.207, 655.211 [Amended]

133. In 20 CFR Part 655, remove the word “Administrator” and add, in its place, the word “OFLC Administrator” in the following places:

a. Section 655.200(c) in four places in the definition of Adverse effect rate;

b. Section 655.202(b) and (b)(4);

c. Section 655.207(b)(1); and

d. Section 655.211(a).

§§ 655.204, 655.205, 655.206 [Amended]

134. In 20 CFR Part 655, remove the words “a DOL Hearing Officer” and add, in their place, the words “an Administrative Law Judge” in the following places:

a. Section 655.204(d)(3);

b. Section 655.205(d); and

c. Section 655.206(c).

§§ 655.510, 655.540, 655.625, 655.665, 655.670, 655.807, 655.810, 655.815, 655.855 [Amended]

135. In 20 CFR Part 655, remove the words “Attorney General” and add, in their place, the word “DHS” in the following places:

a. Section 655.510(i)(1) and (i)(2);

b. Section 655.540(a) and (b);

c. Section 655.625(d)(5);

d. Section 655.665(a) in two places, (a)(1), (b), (c), and (d)(1);

e. Section 655.670(a), (c), (d), (d)(1), and (d)(2);

f. Section 655.807(e);

g. Section 655.810(d);

h. Section 655.815(c)(5); and

i. Section 655.855 in heading, (a) in three places, (b), (c), and (d).

§§ 655.538; 655.539; 655.541 [Amended]

136. In 20 CFR Part 655, remove the words “regional certifying officer” and add, in their place, the words “Certifying Officer” in the following places:

a. Section 655.538 in three places;

b. Section 655.539; and

c. Section 655.541(a).

PART 656—LABOR CERTIFICATION PROCESS FOR PERMANENT EMPLOYMENT OF ALIENS IN THE UNITED STATES

137. The authority for 20 CFR Part 656 continues to read as follows:

Authority: 8 U.S.C. 1182(a)(5)(A), 1189(p)(1); 29 U.S.C. 49 et seq.; section 122, Pub. L. 101-649, 109 Stat. 4978; and Title IV, Pub. L. 105-277, 112 Stat. 2681.

§ 656.1 [Amended]

138. In § 656.1(c) remove the word “Division” and add, in its place, the word “Office.”

139. Amend § 656.3 as follows:

a. Remove the definition of “Division of Foreign Labor Certification”;

b. In the definition of Employment and Training Administration (ETA), remove the words “Division of Foreign Labor Certification”, and add, in their place, the words “Office of Foreign Labor Certification (OFLC)”; and

c. Add, in alphabetical order, the definition of “Office of Foreign Labor Certification” to read as follows:

§ 656.3 Definitions, for purposes of this part, of terms used in this part.

* * * * *

Office of Foreign Labor Certification means the organizational component within the Employment and Training Administration that provides national leadership and policy guidance and develops regulations and procedures to carry out the responsibilities of the Secretary of Labor under the Immigration and Nationality Act, as amended, concerning alien workers seeking admission to the United States in order to work under section 212(a)(5)(A) of the Immigration and Nationality Act, as amended.

* * * * *

§ 656.10 [Amended]

140. In § 656.10(d)(5) remove the reference “656.18(b)(2)” and add, in its place, the reference, “656.18(b)(3)”.

§ 656.16 [Amended]

141. In § 656.16(b)(2) remove the words, “Chief, Division of Foreign Labor Certification” and add, in their place, the words “Office of Foreign Labor Certification (OFLC) Administrator”.

§ 656.20 [Amended]

142. In § 656.20(b) remove the words “that application being denied § 656.24 under” and add, in their place, the words “that application being denied under § 656.24”.

143. Revise § 656.24(a) to read as follows:

§ 656.24 Labor certification determinations.

(a)(1) The Office of Foreign Labor Certification Administrator (OFLC Administrator) is the National Certifying Officer. The OFLC Administrator and the certifying officers in the ETA application processing centers have the authority to certify or deny labor certification applications.

(2) If the labor certification presents a special or unique problem, the Director of an ETA application processing center may refer the matter to the Office of Foreign Labor Certification Administrator (OFLC Administrator). If the OFLC Administrator has directed that certain types of applications or specific applications be handled in the ETA national office, the Directors of the ETA application processing centers shall refer such applications to the OFLC Administrator.

* * * * *

PART 658—ADMINISTRATIVE PROVISIONS GOVERNING THE JOB SERVICE SYSTEM

144. The authority for 20 CFR Part 658 continues to read as follows:

Authority: Wagner-Peyser Act of 1933, as amended, 29 U.S.C. 49 et seq.; 38 U.S.C. chapters 41 and 42; 5 U.S.C. 301 et seq.; sections 658.410, 658.411 and 658.413 also issued under 44 U.S.C. 3501 et seq.

§ 658.401 [Amended]

145. In § 658.401(a)(1) in two places, remove the words “,WIN or CETA” and add, in their place, the words “or WIA”.

§ 658.417 [Amended]

146. In § 658.417(a), remove the words “and/or the Work Incentive Program”.

§§ 658.602, 658.603 [Amended]

147. In 20 CFR Part 658, remove the words “CETA 303 groups” and add, in their place, the words “WIA 167 National Farmworker Jobs program organizations” in the following places:

a. Section 658.602(f)(8)(iii) and (f)(11); and

b. Section 658.603(f)(9)(iii) and (f)(12).

§§ 658.602, 658.603 [Amended]

148. In 20 CFR Part 658, remove the words “CETA 303 services” and add, in their place, the words “WIA 167 National Farmworker Jobs program services” in the following places:

a. Section 658.602(f)(11); and

b. Section 658.603(f)(12).

§ 658.704 [Amended]

149. In paragraphs (b), (d) in two places, (e), and (f)(1) of § 658.704, remove the words “USES Administrator” and add, in their place, the words “OWI Administrator”.

PART 661—STATEWIDE AND LOCAL GOVERNANCE OF THE WORKFORCE INVESTMENT SYSTEM UNDER TITLE I OF THE WORKFORCE INVESTMENT ACT

150. The authority for 20 CFR Part 661 continues to read as follows:

Authority: Sec. 506(c), Pub. L. 105-220; 20 U.S.C. 9276(c).

§ 661.240 [Amended]

151. Amend § 661.240 as follows:

a. Remove and reserve paragraph (a)(5); and

b. In paragraph (b)(1) remove the words ”, or the WtW plan”.

PART 662—DESCRIPTION OF THE ONE-STOP SYSTEM UNDER TITLE I OF THE WORKFORCE INVESTMENT ACT

152. The authority for 20 CFR Part 662 is revised to read as follows:

Authority: Sec. 506(c), Pub. L. 105-220; 20 U.S.C. 9276(c).

153. Amend § 662.200 by removing and reserving paragraph (b)(5) and by revising paragraph (b)(8) to read as follows:

§ 662.200 Who are the required One-Stop partners?

* * * * *

(b) * * *

(8) Trade Adjustment Assistance and NAFTA Transitional Adjustment Assistance activities authorized under chapter 2 of title II of the Trade Act of 1974, as amended (19 U.S.C. 2271 et seq.) and Section 123(c)(2) of the Trade Adjustment Assistance Reform Act of 2002 (Pub. L. 107-210), respectively; see (WIA sec. 121(b)(1)(B)(viii));

* * * * *

154. Revise § 662.240(b)(10) to read as follows:

§ 662.240 What are a program's applicable core services?

* * * * *

(b) * * *

(10) Assistance in establishing eligibility for programs of financial aid assistance for training and education programs that are not funded under this Act and are available in the local area; and

* * * * *

PART 667—ADMINISTRATIVE PROVISIONS UNDER TITLE I OF THE WORKFORCE INVESTMENT ACT

155. The authority for 20 CFR Part 667 continues to read as follows:

Authority: Subtitle C of Title I, Sec. 506(c), Pub. L. 105-220, 112 Stat. 936 (20 U.S.C. 9276(c)); Executive Order 13198, 66 FR 8492, 3 CFR 2001 Comp., p. 750; Executive Order 13279, 67 FR 77141, 3 CFR 2002 Comp., p. 258.

§ 667.105 [Amended]

156. Remove and reserve § 667.105(f).

§ 667.200 [Amended]

157. Amend § 667.200 as follows:

a. In paragraph(a)(2), remove the words “which is codified at 29 CFR part 95.” and add, in their place, the words “which is codified at 2 CFR part 215 and 29 CFR part 95.”;

b. In paragraph (b)(2)(ii), remove the words “($300,00 as of August 11, 2000)” and add, in their place, the words “($300,000 ($500,000 for years ending after December 21, 2003))”; and

c. Remove paragraph (c)(7).

Subpart I [Removed]

158. Remove subpart I, consisting of §§ 667.900 and 667.910.

PART 668—INDIAN AND NATIVE AMERICAN PROGRAMS UNDER TITLE I OF THE WORKFORCE INVESTMENT ACT

159. The authority citation for 20 CFR 668 continues to read as follows:

Authority: Secs. 506(c) and 166(h)(2), Pub. L. 105-220; 20 U.S.C. 9276(c); 29 U.S.C. 2911(h)(2).

§ 668.230 [Amended]

160. In § 668.230(b) remove the words “or the JTPA regulations at 20 CFR part 632”.

Dated: May 25, 2006.
Emily Stover DeRocco,
Assistant Secretary for Employment and Training.

[FR Doc. 06-5292 Filed 6-20-06; 8:45 am]

BILLING CODE 4510-30-P